DEPARTMENT OF AGRICULTURE

Rural Utilities Service

Freedom Power Station Plant, Notice of Finding of No Significant Impact

AGENCY: Rural Utilities Service, USDA.

ACTION: Notice of Finding of No Significant Impact.

SUMMARY: Notice is hereby given that the Rural Utilities Service (RUS), pursuant to the National Environmental Policy Act of 1969, as amended, the Council on Environmental Quality Regulations (40 CFR Parts 1500-1508), and RUS Environmental Policies and Procedures (7 CFR Part 1794), has made a finding of No Significant Impact (FONSI) with respect to a project proposed by Southwestern Electric Cooperative, Inc., (SEC) of Greenville, Illinois. The proposed project consists of constructing a natural gas-fired simple cycle, combustion turbine power generation facility near Wright?s Corner in Fayette County, Illinois. The primary purpose of the facility is to meet SEC peak electrical load . The unit will have a peak capacity of 45 MW. The facility will be located on a 1.5 acre tract of land on the East Side of County Highway 4 approximately six miles north of the City of Elmo, Illinois. The power generated from the facility will be distributed through an existing transmission line owned and operated jointly by SEC and Ameren. No additional construction of the transmission facility will be required. Kansas-Nebraska Energy will provide natural gas fuel for the facility. The Kansas-Nebraska Energy gas pipeline is located about 50 feet from the plant site. RUS may provide financing assistance to SEC for the project.

RUS has concluded that the impacts from the proposed project would not be significant and that the proposed action is not a major federal action significantly affecting the quality of the human environment. Therefore, the preparation of an environmental impact statement is not necessary.

FOR FUTHER INFORMATION CONTACT: Nurul Islam, Environmental Protection Specialist, Rural Utilities Service, Engineering and Environmental Staff, Stop 1571, 1400 Independence Avenue, SW, Washington, DC 20250-1571, telephone: (202) 720-1414. His e-mail address is nislam@rus.usda.gov. Information is also available from Mr. Joe Richardson, Business Development and Marketing Manager, SEC, 525 US Route 40, Greenville, Illinois 62246, telephone (618) 664-1025.

SUPPLEMENTARY INFORMATION: RUS, in accordance with its environmental policies and procedures, required that SEC prepare an Environmental Report (ER) reflecting the potential impacts of the proposed facilities. The ER, which includes input from Federal, State, and local agencies, has been reviewed and adopted as RUS?s Environmental Assessment (EA) for the project in accordance with 7 CFR 1794.41. RUS and SEC published notices of the availability of the EA and solicited public comments per 7 CFR 1794.42. No comments were received. Based on the EA, RUS has concluded that the proposed action will not have a significant effect to various resources, including important farmland, floodplains, wetlands, cultural resources, threatened and endangered species and their critical habitat, air and water quality, and noise. RUS has also determined that there would be no negative impacts of the proposed project on minority communities and low-income communities as a result of the construction of the project.

Copies of the EA and FONSI can be reviewed at the headquarters of SEC and the RUS, at the addresses provided above in this notice.

Dated: February 10, 2000.
Lawrence R. Wolfe,
Acting Director Engineering and Environmental Staff.

[FR Doc. 00-3829 Filed 2-16-00; 8:45 am]

BILLING CODE 3410-15-P